CONSUMER PRODUCT SAFETY COMMISSION

16 CFR Chapter II

[Docket No. CPSC-2018-0003]

Petition Requesting Rulemaking To Exempt Certain Head Protection Devices From the Safety Standard for Bicycle Helmets

AGENCY: Consumer Product Safety Commission.

ACTION: Notice.

SUMMARY: The U.S. Consumer Product Safety Commission (Commission or CPSC) received a petition from Hövding Sweden AB (petitioner or Hövding) requesting the Commission to exempt “inflatable head protective devices for bicyclists,” such as Hövding's product, from the testing requirements of the Safety Standard for Bicycle Helmets, if such product complies with, and is certified to, requirements in another standard that Hövding states is appropriate to test such products. The Commission invites written comments concerning this petition.

DATES: Submit comments by May 8, 2018.

ADDRESSES: Submit comments, identified by Docket No. CPSC-2018-0003, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written comments by mail/hand delivery/courier to: Office of the Secretary, Consumer Product Safety Commission, Room 820, 4330 East-West Highway, Bethesda, MD 20814; telephone (301) 504-7923.

Instructions: All submissions received must include the agency name and docket number for this notice. All comments received may be posted without change to http://www.regulations.gov, including any personal identifiers, contact information, or other personal information provided. Do not submit confidential business information, trade secret information, or other sensitive or protected information that you do not want to be available to the public. If furnished at all, such information should be submitted by mail/hand delivery/courier.

Docket: For access to the docket to read background documents or comments received, go to: http://www.regulations.gov, insert docket number CPSC-2018-0003 into the “Search” box, and follow the prompts.

FOR FURTHER INFORMATION CONTACT: Rocky Hammond, Office of the Secretary, Consumer Product Safety Commission, 4330 East-West Highway, Bethesda, MD 20814; telephone: 301-504-6833; email: RHammond@cpsc.gov.

SUPPLEMENTARY INFORMATION: On December 15, 2017, Hövding submitted a petition requesting that the Commission exempt “inflatable head protective devices for bicyclists” from the testing requirements of the Safety Standard for Bicycle Helmets, 16 CFR part 1203 (Bike Helmet Standard), if such product complies with, and is certified to, requirements in a standard developed by SP Technical Research Institute of Sweden, SP-method 4439, Inflatable head protective devices with electronic triggering system for pedal cyclists (SP-Method 4439).¹

¹ Hövding requests that the Commission grant such exemption through an interim final rule to expedite Hövding's ability to sell products in the U.S. market.

Hövding manufactures and markets a product that is intended to prevent or reduce head injuries to bicyclists in a crash. The Hövding product is worn around the cyclist's neck, like a collar. In the event of a crash, it inflates to cover the rider's head for a few seconds and then deflates. Hövding points out that the requirements in the Bike Helmet Standard only anticipate hard shell bike helmets and does not anticipate other types of designs that protect a cyclist's head. Hövding states that protective devices like its product cannot meet the Bike Helmet Standard, as written, because the test procedures are not appropriate for these types of inflatable products. According to Hövding, the Swedish standard, SP-Method 4439, was designed to ensure that some of the performance criteria applied to hard shell helmets in the Bike Helmet Standard are applied to inflatable head protection devices, sufficient to demonstrate that such products can protect a cyclist's head in an accident.

By this notice, the Commission seeks comments concerning this petition. In particular, the Commission seeks comments on the following:

• Does an inflatable helmet provide equivalent or greater protection against skull fractures compared to a typical hard shell bicycle helmet? Please provide any underlying data or studies relevant to this issue.

• Does an inflatable helmet provide equivalent or greater protection against concussion compared to a typical hard shell bicycle helmet? Please provide any underlying data or studies relevant to this issue including identifying the source of any injury thresholds relied upon.

• Are there any crash scenarios where the deployment of an inflatable helmet will be too slow to protect the user?

• What modifications to the test method in 16 CFR 1203 would be needed to evaluate inflatable helmets for the positional stability, retention system strength, and impact attenuation requirements?

• What existing standards or other performance requirements could be used to evaluate the reliability and integrity of the deployment systems in inflatable helmets, such as sensors and batteries?

• What existing standards or other performance requirements could be used to evaluate the fit of inflatable helmets?

The petition is available at: http://www.regulations.gov, under Docket No. CPSC-2018-0003, Supporting and Related Materials. Alternatively, interested parties may obtain a copy of the petition by writing or calling the Office of the Secretary, Consumer Product Safety Commission, 4330 East-West Highway, Bethesda, MD 20814; telephone (301) 504-6833.

Alberta E. Mills,
Secretary, Consumer Product Safety Commission.

[FR Doc. 2018-04769 Filed 3-8-18; 8:45 am]

BILLING CODE 6355-01-P